DEPARTMENT OF AGRICULTURE

Animal and Plant Health Inspection Service

[Docket No. APHIS-2013-0003]

Environmental Impact Statement; Asian Longhorned Beetle Eradication Program

AGENCY: Animal and Plant Health Inspection Service, USDA.

ACTION: Notice of intent to prepare an environmental impact statement and proposed scope of study.

SUMMARY: We are advising the public that the Animal and Plant Health Inspection Service plans to prepare an environmental impact statement to analyze the effects of a program to eradicate the Asian longhorned beetle from wherever it might occur in the United States. This notice identifies potential issues and alternatives that will be studied in the environmental impact statement and requests public comments to further delineate the scope of the alternatives and environmental impacts and issues.

DATES: We will consider all comments that we receive on or before September 16, 2013.

ADDRESSES: You may submit comments regarding the environmental impact statement by either of the following methods:

• Federal eRulemaking Portal: Go to http://www.regulations.gov/#!documentDetail;D=APHIS-2013-0003-0001.

• Postal Mail/Commercial Delivery: Send your comment to Docket No. APHIS-2013-0003, Regulatory Analysis and Development, PPD, APHIS, Station 3A-03.8, 4700 River Road Unit 118, Riverdale, MD 20737-1238.

Supporting documents and any comments we receive on this docket may be viewed at http://www.regulations.gov/#!docketDetail;D=APHIS-2013-0003 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For questions related to the Asian Longhorned Beetle Eradication Program, contact Dr. Robyn Rose, National Asian Longhorned Beetle Eradication Program Manager, PPQ, APHIS, 4700 River Road Unit 137, Riverdale, MD 20737; (301) 851-2283. For questions related to the environmental impact statement, contact Dr. Jim Warren, Environmental Protection Specialist, Environmental and Risk Analysis Services, PPD, APHIS, 4700 River Road Unit 149, Riverdale, MD 20737; (202) 316-3216.

SUPPLEMENTARY INFORMATION:

Background

The Asian longhorned beetle (Anoplophora glabripennis) (ALB) is a foreign wood-boring beetle that threatens a wide variety of hardwood trees in North America. The native range of ALB includes China and Korea. ALB is believed to have been introduced into the United States from wood pallets and other wood packing material accompanying cargo shipments from Asia. ALB was first discovered in the United States in August 1996 in the Greenpoint neighborhood of Brooklyn, NY. Since then, ALB has been found in limited areas in New York and New Jersey, Illinois, Massachusetts, and most recently, in Clermont County, OH.

Areas where ALB has been found are quarantined in accordance with the regulations in 7 CFR 301.51-1 through 301.51-9. These regulations place restrictions on the movement of ALB host articles from the quarantined areas, thus helping to prevent the human-assisted spread of ALB. Within the quarantined areas, the Animal and Plant Health Inspection Service (APHIS) works to eradicate ALB, after which the quarantine can be removed.

To date, ALB has been eradicated from Chicago, IL; Hudson, Middlesex, and Union Counties, NJ; Islip, NY; and the boroughs of Manhattan and Staten Island in New York. The infested areas in Massachusetts and Ohio are active eradication areas, and APHIS is still working to determine the extent of those infestations.

Current efforts to eradicate infestations in the two locations listed above include cutting, chipping or burning, and disposing by mulching of infested trees and high-risk host trees (ALB host trees that are located within a half-mile radius of infested trees). High-risk host trees that are not cut are treated with either trunk injections or soil injections at the base of the tree using the insecticide imidacloprid.

Under the provisions of the National Environmental Policy Act of 1969 (NEPA), as amended (42 U.S.C. 4321 et seq.), Federal agencies must examine the potential environmental effects of proposed Federal actions and alternatives. We are planning to prepare an environmental impact statement (EIS) to analyze the effects of a program to eradicate the Asian longhorned beetle from wherever it might occur in the United States. The EIS will examine the environmental effects of control alternatives available to the Agency, including a no action alternative. It will be used for planning and decisionmaking and to inform the public about the environmental effects of APHIS' ALB eradication activities. It will also provide an overview of APHIS activities to which we can tier site-specific analyses and environmental assessments if new ALB infestations are discovered in the United States.

We are requesting public comment to help us identify or confirm potential alternatives and environmental issues that should be examined in the EIS, as well as comments that identify other issues that should be examined in the EIS.

The EIS will be prepared in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

We have identified five alternatives for further examination in the EIS:

Take no action. Under the no action alternative, no eradication efforts would be undertaken by APHIS. However, APHIS would continue to implement quarantine restrictions.

Removal of infested trees. Under this alternative, APHIS would implement quarantine restrictions and would only remove trees infested with ALB. High-risk host trees would not be removed or treated.

Full host removal. Under this alternative, APHIS would implement quarantine restrictions, remove infested host trees, and remove high-risk host trees up to a half mile from infested trees.

Insecticide treatment. Under this alternative, APHIS would implement quarantine restrictions, remove infested host trees, and treat high-risk host trees with an insecticide up to a half mile from infested trees.

Integrated approach. Under this alternative, APHIS would implement quarantine restrictions, remove infested trees, and use a combination of removal and insecticide treatments of high-risk host trees.

We have identified the following potential environmental impacts or issues for further examination in the EIS:

• Effects on wildlife, including consideration of migratory bird species and changes in native wildlife habitat and populations.

○ Effects on federally listed threatened and endangered species.

• Effects on soil, air, and water quality.

• Effects on forests and trees in residential areas.

• Effects on the wood product industry and other economic impacts, including impacts on the firewood industry and on property values.

• Effects on human health and safety.

• Effects on cultural and historic resources.

We welcome comments on the proposed action, and on other alternatives and environmental impacts or issues that should be considered for further examination in the EIS.

All comments on this notice will be carefully considered in developing the final scope of the EIS. Upon completion of the draft EIS, a notice announcing its availability and an invitation to comment on it will be published in the Federal Register.

Done in Washington, DC, this 12th day of August 2013.
Kevin Shea,
Administrator, Animal and Plant Health Inspection Service.

[FR Doc. 2013-19957 Filed 8-15-13; 8:45 am]

BILLING CODE 3410-34-P